GULF COAST ECOSYSTEM RESTORATION COUNCIL

40 CFR Part 1800

[Docket Number: 104122016-1111-01]

RESTORE Act Spill Impact Component Allocation

AGENCY: Gulf Coast Ecosystem Restoration Council.

ACTION: Notice of effective date of final rule.

SUMMARY: This document confirms that on April 4, 2016, the United States District Court for the Eastern District of Louisiana entered a consent decree (Consent Decree) among the United States; the states of Alabama, Florida, Louisiana, Mississippi and Texas; and BP Exploration and Production Inc. with respect to the civil penalty and natural resource damages in case number MDL No. 2179. The Gulf Coast Ecosystem Restoration Council (Council) regulation (Spill Impact Regulation) that implements the Spill Impact Component Allocation of the Resources and Ecosystems Sustainability, Tourist Opportunities, and Revived Economies of the Gulf Coast States Act of 2012 (RESTORE Act) is effective as of the date of publication of this document.

DATES: The Spill Impact Regulation is effective on April 12, 2016.

FOR FURTHER INFORMATION CONTACT: Will Spoon at (504) 239-9814.

SUPPLEMENTARY INFORMATION:

Background

On December 15, 2015, the Council published the Spill Impact Regulation in the Federal Register (80 FR 77580), to be effective on the date that the Council publishes this document in the Federal Register confirming that the United States District Court for the Eastern District of Louisiana has entered the Consent Decree.

On April 4, 2016, the United States District Court for the Eastern District of Louisiana entered the Consent Decree. The Council confirms such entry by publication of this document, and the Spill Impact Regulation is therefore effective.

For more information on the Spill Impact Regulation, please see the final rule (80 FR 77580, December 15, 2015).

Procedural Requirements

Regulatory Planning and Review (Executive Orders 12866 and 13563)

As an independent Federal entity that is comprised, in part, of the Secretaries of the Departments of the Interior, Agriculture, Commerce and Homeland Security; the Secretary of the Army; and the Administrator of Environmental Protection Agency, the requirements of Executive Orders 12866 and 13563 do not apply to this document.

Paperwork Reduction Act

This document contains no collection of information requirements. Therefore the Paperwork Reduction Act does not apply to this document.

(Authority: 33 U.S.C. 1321(t).)

Justin R. Ehrenwerth,
Executive Director, Gulf Coast Ecosystem Restoration Council.

[FR Doc. 2016-08319 Filed 4-11-16; 8:45 am]

BILLING CODE 6560-58-P